EXPORT-IMPORT BANK OF THE UNITED STATES

[Public Notice 2014-0029]

Application for Final Commitment for a Long-Term Loan or Financial Guarantee in Excess of $100 Million: AP088703XX

AGENCY: Export-Import Bank of the United States.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter).

Comments received within the comment period specified below will be presented to the Ex-Im Bank Board of Directors prior to final action on this Transaction. Comments received will be made available to the public.

DATES: Comments must be received on or before June 10, 2014 to be assured of consideration before final consideration of the transaction by the Board of Directors of Ex-Im Bank.

ADDRESSES: Comments may be submitted through Regulations.gov at WWW.REGULATIONS.GOV. To submit a comment, enter EIB-2014-0029 under the heading “Enter Keyword or ID” and select Search. Follow the instructions provided at the Submit a Comment screen. Please include your name, company name (if any) and EIB-2014-0029 on any attached document.

Reference: AP088703XX.

Purpose and Use: Brief description of the purpose of the transaction: To support the export of U.S.-manufactured commercial aircraft to Thailand.

Brief non-proprietary description of the anticipated use of the items being exported: To be used for long-haul passenger air service between Thailand and other countries. To the extent that Ex-Im Bank is reasonably aware, the item(s) being exported may be used to produce exports or provide services in competition with the exportation of goods or provision of services by a United States industry.

Parties: Principal Supplier: The Boeing Company.

Obligor: Thai Airways International Public Company Limited.

Guarantor(s): N/A.

Description of Items Being Exported: Boeing 777 aircraft.

Information on Decision: Information on the final decision for this transaction will be available in the “Summary Minutes of Meetings of Board of Directors” on http://exim.gov/newsandevents/boardmeetings/board/

Confidential Information: Please note that this notice does not include confidential or proprietary business information; information which, if disclosed, would violate the Trade Secrets Act; or information which would jeopardize jobs in the United States by supplying information that competitors could use to compete with companies in the United States.

Cristopolis Dieguez,
Business Compliance Analyst, Office of the General Counsel.

[FR Doc. 2014-11374 Filed 5-15-14; 8:45 am]

BILLING CODE 6690-01-P